DEPARTMENT OF TRANSPORTATION

Federal Aviation Administration

Notice of Availability, Notice of Public Comment Period, Notice of Public Meeting, and Request for Comment on the Draft Environmental Assessment for the Huntsville International Airport Reentry Site Operator License and Sierra Space Corporation Vehicle Operator License

AGENCY: Federal Aviation Administration (FAA), Department of Transportation (DOT).

ACTION: Notice of availability, notice of public comment period, notice of public meeting, and request for comment.

SUMMARY: In accordance with the National Environmental Policy Act of 1969, as amended (NEPA), Council on Environmental Quality NEPA implementing regulations, and FAA Order 1050.1F, Environmental Impacts: Policies and Procedures, the FAA is announcing the availability of and requesting comment on the Draft Environmental Assessment for the Huntsville International Airport Reentry Site Operator License and Sierra Space Corporation Vehicle Operator License (Draft EA).

DATES: Comments must be received on or before December 22, 2021. The FAA will hold a public meeting on December 9, 2021 at 5 p.m. central to solicit comments from the public concerning the scope and content of the Draft EA. Information for the meeting will be available at https://www.faa.gov/space/stakeholder_engagement/huntsville_reentry/.

ADDRESSES: Comments should be mailed to Ms. Stacey Zee, Huntsville Reentry, c/o ICF, 9300 Lee Highway, Fairfax, VA 22031. Comments may also be submitted by email to huntsvillereentry@icf.com.

FOR FURTHER INFORMATION CONTACT: Stacey Zee, Environmental Protection Specialist, Federal Aviation Administration, 800 Independence Avenue SW, Suite 325, Washington, DC 20591; phone (202) 267-9305 (Stacey); email HuntsvilleReentry@icf.com.

SUPPLEMENTARY INFORMATION: The FAA is the lead agency. The National Aeronautics and Space Administration (NASA) and United States Coast Guard (USGC) are cooperating agencies for the Draft Environmental Assessment for the Huntsville International Airport Reentry Site Operator License and Sierra Space Corporation Vehicle Operator License due to their special expertise and jurisdictions. The FAA is evaluating (1) Huntsville-Madison County Airport Authority's (Authority) proposal to operate a commercial reentry site at Huntsville International Airport, which would require the FAA to issue a Reentry Site Operator License, and (2) Sierra Space Corporation's (Sierra Space) proposal to land the Dream Chaser at Huntsville International Airport, which would require the FAA to issue a Vehicle Operator License. Issuing a Reentry Site Operator License and Vehicle Operator License are considered Federal actions subject to environmental review under NEPA. Under the Proposed Action, the FAA would issue a Reentry Site Operator License to the Authority to operate a commercial reentry site at Huntsville International Airport; the Reentry Site Operator License would allow the Authority to offer Huntsville International Airport to Sierra Space to conduct reentries of Dream Chaser vehicles in compliance with 14 CFR part 433. Also under the Proposed Action, the FAA would issue a Vehicle Operator License to Sierra Space to land the Dream Chaser at Huntsville International Airport; the Vehicle Operator License would allow Sierra Space to land Dream Chaser at Huntsville International Airport in compliance with 14 CFR part 450.

Alternatives under consideration include the Proposed Action and the No Action Alternative. Under the No Action Alternative, the FAA would not issue a Reentry Site Operator License to the Authority for commercial reentries, nor would the FAA issue a Vehicle Operator License to Sierra Space for landing the Dream Chaser at Huntsville International Airport. Sierra Space's Dream Chaser reentry operations would not occur and Huntsville International Airport would continue to operate and serve forecast activity.

The FAA has posted the Draft EA on the FAA Office of Commercial Space Transportation website: https://www.faa.gov/space/stakeholder_engagement/huntsville_reentry/.

The FAA encourages all interested parties to provide comments concerning the scope and content of the Draft EA. Before including your address, phone number, email address, or other personal identifying information in your comment, be advised that your entire comment—including your personal identifying information—may be made publicly available at any time. While you can ask the FAA in your comment to withhold from public review your personal identifying information, the FAA cannot guarantee that we will be able to do so.

Issued in Washington, DC, on November 19, 2021.
James R. Repcheck,
Manager, Safety Authorization Division.

[FR Doc. 2021-25541 Filed 11-22-21; 8:45 am]

BILLING CODE 4910-13-P